DEPARTMENT OF HEALTH AND HUMAN SERVICES

Administration for Children and Families

Proposed Information Collection Activity; Comment Request

Title: Health Profession Opportunity Grant (HPOG) program: Third Follow-Up Data Collection.

OMB No.: 0970-0394.

Description: The Administration for Children and Families (ACF), U.S. Department of Health and Human Services (HHS) is proposing data collection activities as part of the Health Profession Opportunity Grant (HPOG) program. The proposed data collection activities are for the Impact Study of the first round of HPOG grants (HPOG-Impact). The goal of HPOG-Impact is to evaluate the effectiveness of approaches used by 20 of the 27 non-tribal HPOG grantees to provide TANF recipients and other low-income individuals with opportunities for education, training, and advancement within the healthcare field. It is also intended to evaluate variation in participant impact that may be attributable to different HPOG program components and models.

HPOG-Impact is one project within the broader portfolio of research that the ACF Office of Planning, Research, and Evaluation (OPRE) is utilizing to assess the success of career pathways programs and models. This strategy includes a multi-pronged research and evaluation approach for the HPOG program to better understand and assess the activities and their results as well as the Pathways for Advancing Careers and Education (PACE) project. In order to maximize learning across the portfolio, survey development for the HPOG and PACE baseline and follow-up surveys has been coordinated, and the majority of the data elements collected in these surveys are similar. (See OMB Control #0970-0397 for PACE data collection.)

Four data collection efforts have been approved for HPOG research: One for approval of a Performance Reporting System (PRS) (approved September 2011); a second for collection of baseline data (approved October 2012); a third for a follow-up survey of participants administered approximately 15 months after random assignment and for implementation study data collection (approved August 2013); and a fourth for a second follow-up survey of participants administered 36 months after random assignment (approved December 2014).

This Federal Register Notice provides the opportunity to comment on a proposed new information collection activity for HPOG-Impact—a third follow-up survey for HPOG-Impact participants approximately 72 months after program enrollment. The purpose of the survey is to follow-up with study participants to document their education and training experiences; employment experiences including their advancement in their career; economic well-being; student debt and repayment status; and parenting practices and child outcomes for participants with children. Previously approved collection activities under 0970-0394 will continue under this new request, specifically the 36-Month Follow-Up Survey and the Follow-Up Survey Contact Information Update Letters.

Respondents: Random sample of individuals enrolled in the HPOG-Impact Study.

Annual Burden Estimates [This information request is for a three-year period]
Instrument | Total number of respondents | Annual number of respondents | Number of responses per respondent | Average burden hours per response | Annual burden hours
72-Month Follow-Up Survey | 2,000 | 667 | 1 | 0.75 | 500

Estimated Total Annual Burden Hours: 500.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research, and Evaluation, 330 C Street SW., Washington, DC 20201, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Mary Jones,
ACF/OPRE Certifying Officer.

[FR Doc. 2017-00570 Filed 1-11-17; 8:45 am]

BILLING CODE 4184-72-P